DEPARTMENT OF ENERGY

Federal Energy Regulatory Commission

[Project No. 12606-000; Project No. 2545-091]

Post Falls Hydroelectric Project Spokane River Developments Project, Avista Corporation Spokane, WA; Notice of Availability of the Final Enivironmental Impact Statement for the Spokane River Developments and Post Falls Hydroelectric Projects

July 20, 2007.

In accordance with the National Environmental Policy Act of 1969 and the Federal Energy Regulatory Commission (Commission or FERC) regulations contained in the Code of Federal Regulations (CFR) (18 CFR part 380 [FERC Order No. 486, 52 FR 47897]) the Office of Energy Projects staff (staff) reviewed the applications for New Major Licenses for the Spokane River Hydroelectric Project and Post Falls Project. Staff prepared a final environmental impact statement (FEIS) for the projects which are located on the Spokane River, Washington.

The FEIS contains staff's analysis of the potential environmental effects of the projects and concludes that licensing the projects, with staff's recommended measures, would not constitute a major federal action significantly affecting the quality of the human environment. Copies of the FEIS have been sent to federal, state, and local agencies; public interest groups; and individuals on the Commission's mailing list.

A copy of the FEIS is available for review at the Commission's Public Reference Room or may be viewed on the Commission's Web site at: http://www.ferc.gov using the “e-Library” link. Enter the docket number (P-2545) or (P-12606), to access the document. For assistance, contact FERC Online Support at: FERCOnlineSupport@ferc.gov or toll-free at (866) 208-2376, or for TTY, contact (202) 502-8659.

For further information, please contact: John Blair at (202) 502-6092 or at: john.blair@ferc.gov.

Kimberly D. Bose,
Secretary.

[FR Doc. E7-14737 Filed 7-30-07; 8:45 am]

BILLING CODE 6717-01-P